DEPARTMENT OF THE INTERIOR

Bureau of Land Management

[LLCAN01000.L10200000.XZ0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, July 15-16, 2010, in Redding, California. On July 15, the RAC convenes at 10 a.m. at the Oxford Suites, 1967 Hilltop Drive, and departs immediately for a field tour. On July 16, the RAC convenes at 8 a.m. in the conference center at the Oxford Suites. Time for public comment has been reserved for 11 a.m.

FOR FURTHER INFORMATION CONTACT: Nancy Haug, BLM Northern California District manager, (530) 221-1743; or BLM Public Affairs Officer Joseph J. Fontana, (530) 252-5332.

SUPPLEMENTARY INFORMATION: The 12-member council advises the Secretary of the Interior, through the BLM, on a variety of planning and management issues associated with public land management in Northwest California. At this meeting agenda topics include discussion of access to Cow Mountain, a report on salmon recovery work on public lands, an overview of forest practices, an update on a wind energy proposal for Walker Ridge and an update on management of the Sacramento River Bend area. All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Dated: May 6, 2010.
Joseph J. Fontana,
Public Affairs Officer.

[FR Doc. 2010-11635 Filed 5-14-10; 8:45 am]

BILLING CODE 4310-40-P